DEPARTMENT OF EDUCATION

Office of Special Education and Rehabilitative Services; Overview Information; Technical Assistance and Dissemination To Improve Services and Results for Children With Disabilities—State Technical Assistance Projects To Improve Services and Results for Children Who Are Deaf-Blind; Notice Inviting Applications for New Awards for Fiscal Year (FY) 2008

Catalog of Federal Domestic Assistance (CFDA) Number: 84.326C.

DATES: Applications Available: March 25, 2008.

Deadline for Transmittal of Applications: April 24, 2008.

Deadline for Intergovernmental Review: June 23, 2008.

Full Text of Announcement

I. Funding Opportunity Description

Purpose of Program: The purpose of the Technical Assistance and Dissemination To Improve Services and Results For Children With Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1400 et seq.).

Absolute Priority: For FY 2008 and any subsequent year in which we make awards based on the list of unfunded applicants from this competition, this priority is an absolute priority. Under 34 CFR 75.105(c)(3), we consider only applications that meet this priority.

This priority is:

Technical Assistance and Dissemination To Improve Services and Results for Children With Disabilities—State Technical Assistance Projects To Improve Services and Results for Children Who Are Deaf-Blind

Background

Children who are deaf-blind represent one of the lowest incidence and most diverse groups of learners receiving early intervention, special education, and related services (Muller, 2006). In addition to having combined hearing and vision loss, 90 percent of these children experience concomitant physical or intellectual disabilities and may experience complex medical and behavioral challenges (Killoran, 2007).

Children who are deaf-blind are often isolated and disconnected from people and activities in their homes, schools, and communities both because they cannot access visual and auditory information and because they are not given the individualized supports necessary to access this information. Without individualized supports to access visual and auditory information (i.e., environmental information, such as who is present, what is being said, and what activities are occurring), children who are deaf-blind are at greater risk for not attaining age-appropriate milestones in communication and language, social skills, and activities of daily living, which in turn affects their educational outcomes. Consequently, students who are deaf-blind often exit school at age 22 without viable postsecondary education, employment, or independent living options.

Most State educational agencies (SEAs), Part C State lead agencies, and local educational agencies (LEAs) lack sufficient numbers of personnel with the specialized training, experience, and skills that are needed to provide appropriate early intervention, special education, and related services to children who are deaf-blind (Collins, 1992; Markowitz, 2001; McLetchie, 1992). The critical shortage of personnel to serve children who are deaf-blind can limit access to a free appropriate public education for these children.

Since its inception, the Office of Special Education Programs (OSEP) has funded technical assistance (TA) projects and personnel preparation programs to build State and local capacity to serve children who are deaf-blind and their families. As a result of those projects and programs, professionals, advocates, individuals who are deaf-blind, and parents have collaborated to make progress in identifying evidence-based intervention practices for children who are deaf-blind, developing high-quality training materials and resources, and developing networks across States to share information (Killorin, Davies, & McNulty, 2006). However, the National Deaf-Blind Child Count Registry data show that eighty-five percent of school-age children receive their services in separate settings. More work is needed to ensure that early intervention, special and regular education, and related services personnel have adequate skills to appropriately serve infants and toddlers in natural environments, which may include home and community settings, and school-age children in the least restrictive environment (Warner, 2007). Under this priority, the projects to be funded will create or strengthen collaborative partnerships among families, SEAs, State lead agencies, and LEAs to enhance services and improve outcomes for children who are deaf-blind. Projects will assist SEAs, State lead agencies, and LEAs in ensuring that children served under Part C of IDEA who are deaf-blind receive services, to the maximum extent appropriate, in natural environments, and children served under Part B of IDEA who are deaf-blind have access to, and are involved and make progress in, the general education curriculum in the least restrictive environment.

Priority:

The purpose of this priority is to support the establishment and operation of State Technical Assistance Projects To Improve Services and Results for Children Who Are Deaf-Blind (projects). Grants are available to support projects in all States, the Virgin Islands, and the outlying areas and the Freely Associated States (FAS) of the Pacific Basin. Funds awarded under this priority may not be used to provide direct early intervention services under Part C of IDEA, or direct special education and related services under Part B of IDEA.

To be considered for funding under this absolute priority, applicants must meet the application requirements contained in this priority. All projects funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: For more information on logic models, the following Web site lists multiple online resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services; and

(d) A budget for attendance at the following:

(1) A four-day Project Directors' Conference in Washington, DC, during each year of the project period.

(2) A three-day National Consortium on Deaf-Blindness Annual Topical Conference during each year of the project period.

Project Activities. To meet the requirements of this priority, the project, at a minimum, must conduct the following activities:

Technical Assistance and Dissemination Activities

(a) Facilitate collaborative partnerships between family members of children who are deaf-blind; early intervention, special and regular education, and related services personnel; and SEAs, LEAs, and State lead agencies to develop and implement individualized supports that improve children's outcomes and educational achievement.

(b) Provide information and TA, including distance learning activities and ongoing professional development opportunities paired with on-site coaching, to family members of children who are deaf-blind and early intervention, special and regular education, and related services personnel working with children who are deaf-blind. Information and TA must focus on helping family members and early intervention, special and regular education, and related services personnel—

(1) Identify developmental and educational milestones;

(2) Develop age-appropriate Individualized Family Service Plans and standards-based Individualized Education Programs, which include measurable postsecondary goals for students no later than the age of 16;

(3) Use children's interests, preferences, and learning characteristics to support learning and development;

(4) Use evidence-based practices to increase children's communication, language, concept development, social interactions, and adaptive behaviors, thereby improving early intervention and educational outcomes;

(5) Use assistive and instructional technologies to maintain or improve children's functional and educational capabilities; and

(6) Increase children's access to and participation in natural environments, which may include home and community settings, and age-appropriate activities-based routines for those served under Part C of IDEA, and access to, and participation and progress in, the general education curriculum in the least restrictive environment for those served under Part B of IDEA.

(c) Work with families, SEAs, State lead agencies, LEAs, and institutions of higher education (IHEs) to use information from the National Consortium on Deaf-Blindness and other appropriate sources to develop—

(1) A shared understanding across the stakeholder groups of how to support children who are deaf-blind within local systems and communities;

(2) A plan that addresses the professional development needs of personnel who serve children who are deaf-blind, including paraprofessionals who serve as interveners. An “intervener” is an individual who has received specialized training to assist children who are deaf-blind by (a) facilitating access to environmental information, such as who is present, what is being said, and what activities are occurring, (b) supporting their development and use of communication skills, and (c) promoting their social and emotional well-being by maintaining a trusting and interactive relationship (Alsop, Blaha, & Kloos, 2000). For further information regarding interveners see: http://www.nationaldb.org/ISSelectedTopics.php?topicCatID=10); and

(3) Program improvement strategies for the State Performance Plans and Annual Performance Reports and local program and school improvement activities.

(d) Work with SEAs, LEAs, State lead agencies and, as appropriate, IHEs to implement the professional development plan.

(e) If the project maintains a Web site, ensure that it meets government or industry-recognized standards for accessibility and links to the Web site operated by the Technical Assistance Coordination Center, which OSEP intends to fund in FY 2008.

Leadership and Coordination Activities

(a) Communicate and collaborate, on an ongoing basis, with the National Consortium on Deaf-Blindness (NCDB) and ensure that the project's staff is aware of NCDB's resources, products, and services that may be used in its training and TA activities.

(b) Communicate and collaborate, on an ongoing basis, with OSEP-funded projects, including Parent Training and Information Centers; the Postsecondary Education Programs Network; the National Instructional Materials Accessibility Standard Development and Technical Assistance Centers; Bookshare.org for Education, the Center for the Production and Dissemination of Educational Materials in Accessible Formats for Students with Visual Impairments and Other Print Disabilities; the Center for Implementing Technology in Education; the Family Center on Technology and Disability; the National Center for Technology Innovation; the Regional Resource Centers; the National Center for Leadership in Vision Impairment; and low-incidence personnel development projects. This collaboration could include the coordination of TA services, the planning and carrying out of TA meetings and events, and possible joint development of products.

(c) Though product development should not be a primary function of this project, if the project identifies an emerging need for a product (e.g., print materials, DVDs, videos), submit a proposal describing the content and purpose of the product prior to development to the OSEP Project Officer.

(d) Participate in, organize, or facilitate, as appropriate, OSEP communities of practice (http://www.tacommunities.org) that are aligned with the project's objectives as a way to support discussions and collaboration among key stakeholders.

(e) Contribute, on an ongoing basis, updated information on the project's services to OSEP's Technical Assistance and Dissemination Matrix (http://matrix.rrfcnetwork.org), which provides current information on Department-funded TA services to a range of stakeholders.

(f) Maintain ongoing communication with the OSEP Project Officer through regular phone conversations and e-mail communication.

References

Alsop, L., Blaha, R., & Kloos, E. (2000). The intervener in early intervention and educational settings for children and youth with deafblindness (Briefing Paper). Monmouth, OR: The National Technical Assistance Consortium for Children and Young Adults Who Are Deaf-Blind.

Collins, M. T. (1992). Educational Services. In J.W. Reiman & P.A. Johnson (Eds.), Proceedings from the National Symposium on Children and Youth Who Are Deaf Blind (pp. 165-178). Monmouth, OR: Teaching Research Publications.

Killoran, J. (2007). The national deaf-blind child count: 1998-2005 in review. Monmouth, OR: National Consortium on Deaf-Blindness. Retrieved December 27, 2007, from http://www.nationaldb.org/documents/products/Childcountreview0607Final.pdf.

Killorin, J., Davies, P., & McNulty, K. (August 2006). The NTAC Outcomes and Performance Indicators: A System for Documenting Outcomes for Children and Youth with Deaf-Blindness, their Families, and the Service Providers and Systems that Serve Them. Western Oregon University Monmouth, OR. Retrieved December 27, 2007, from http://tr.wou.edu/ntac/index.cfm?path=publications/publications_index.html.

Markowitz, J. (April 2001). Personnel to Support the Education of Children and Youth with Deafblindness. Alexandria, VA: Project Forum.

McLetchie, B.A.B. (1992) Personnel Preparation. In J.W. Reiman & P.A. Johnson (Eds.), Proceedings from the National Symposium on Children and Youth Who Are Deaf Blind (pp. 203-219). Monmouth, OR: Teaching Research Publications.

Muller, E. (2006, July). Deaf-blind child counts: Issues and challenges. Alexandria, VA: Project Forum.

Warner, R. ( 2007, February). The Real Deal. Presentation at the conference Deafblindness: A Real Vision, Hampton, VA.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Discretionary grants.

Estimated Available Funds: $9,500,000. Please refer to the “Funding Level” column in the chart shown in the Maximum Awards section of this notice for the estimated dollar amounts for individual awards.

Estimated Range of Awards: $30,000-$575,000.

Estimated Average Size of Awards: $176,000.

Maximum Awards: The following chart lists the maximum amount of funds for individual States for a single budget period of 12 months. A State may be served by only one supported project. In determining the maximum funding levels for each State the Secretary considered, among other things, the following factors:

(1) The total number of children from birth through age 21 in the State.

(2) The number of people in poverty in the State.

(3) The previous funding levels.

(4) The maximum and minimum funding amounts.

2008 Funding Levels for CFDA No. 84.326C
State | Funding level | State | Funding level
AK | $106,971 | ND | 65,000
AL | 185,095 | NE | 78,471
AR | 118,534 | NH | 65,807
AZ | 175,338 | NJ | 268,086
CA | 575,000 | NM | 100,912
CO | 154,079 | NY | 575,000
CT | 104,751 | NV | 112,563
DE | 83,362 | OH | 259,320
FL | 362,027 | OK | 131,374
GA | 305,978 | OR | 121,286
HI | 77,491 | PA | 371,952
IA | 97,054 | PR | 65,000
ID | 85,303 | RI | 79,368
IL | 335,444 | SC | 154,204
IN | 210,093 | SD | 101,746
KS | 128,122 | TN | 238,451
KY | 165,145 | TX | 575,000
LA | 145,840 | UT | 92,039
MA | 126,661 | VA | 234,082
MD | 164,366 | VT | 114,301
ME | 65,000 | WA | 195,750
MI | 256,289 | WI | 173,484
MN | 171,335 | WV | 125,020
MO | 197,129 | WY | 65,000
MS | 133,605 | DC | 65,000
MT | 106,123 | Pacific ** | 92,000
NC | 313,649 | VI | 30,000

**The areas to be served by this award are the outlying areas of American Samoa, Guam, and the Commonwealth of the Northern Mariana Islands as well as the Freely Associated States of the Republic of the Marshall Islands, the Federated States of Micronesia, and the Republic of Palau. An applicant for this award must propose to serve all of these areas. We will reject an application for a State project that proposes a budget exceeding the funding level for any single budget period of 12 months. An applicant may apply for more than one State project award; however a separate application must be submitted for each State project. We will reject an application that proposes to serve more than one State or area specified in the chart above.

The Assistant Secretary for Special Education and Rehabilitative Services may change the maximum amount through a notice published in the Federal Register.

Estimated Number of Awards: 54.

Note: The Department is not bound by any estimates in this notice.

Project Period: Up to 60 months.

III. Eligibility Information

1. Eligible Applicants: SEAs; LEAs, including public charter schools that are considered LEAs under State law; IHEs; other public agencies; private nonprofit organizations; outlying areas; FAS; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this program or competition as follows:

CFDA Number 84.326C.

Individuals with disabilities can obtain a copy of the application package in an alternative format (e.g., Braille, large print, audiotape, or computer diskette) by contacting the person or team listed under Alternate Format in section VIII of this notice.

2. Content and Form of Application Submission: Requirements concerning the content of an application, together with the forms you must submit, are in the application package for this competition. Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger, or no smaller than 10 pitch (characters per inch).

The page limit does not apply to Part I, the cover sheet; Part II, the budget section, including the narrative budget justification; Part IV, the assurances and certifications; or the one-page abstract, the resumes, the bibliography, the references, or the letters of support. The page limit, however, does apply to the application narrative in Part III.

We will reject your application if you exceed the page limit or if you use other standards and exceed the equivalent of the page limit.

3. Submission Dates and Times:Applications Available: March 25, 2008. Deadline for Transmittal of Applications: April 24, 2008.

Applications for grants under this program may be submitted electronically using the Grants.gov Apply site (Grants.gov), or in paper format by mail or hand delivery. For information (including dates and times) about how to submit your application electronically, or in paper format by mail or hand delivery, please refer to section IV.6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: June 23, 2008.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this program may be submitted electronically or in paper format by mail or hand delivery.

a. Electronic Submission of Applications.

To comply with the President's Management Agenda, we are participating as a partner in the Governmentwide Grants.gov Apply site. The State Technical Assistance Projects To Improve Services and Results for Children Who Are Deaf-Blind competition, CFDA Number 84.326C, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the State Technical Assistance Projects To Improve Services and Results for Children Who Are Deaf-Blind competition at http://www.Grants.gov. You must search for the downloadable application package for this competition by the CFDA number. Do not include the CFDA number's alpha suffix in your search (e.g., search for 84.326, not 84.326C).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to: Grants.gov at http://e-Grants.ed.gov/help/GrantsgovSubmissionProcedures.pdf.

• To submit your application via Grants.gov, you must complete all steps in the Grants.gov registration process (see http://www.grants.gov/applicants/get_registered.jsp). These steps include (1) Registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail

If you submit your application in paper format by mail (through the U.S. Postal Service or a commercial carrier), you must mail the original and two copies of your application, on or before the application deadline date, to the Department at the applicable following address: By mail through the U.S. Postal Service: U.S. Department of Education, Application Control Center, Attention: (CFDA Number 84.326C), 400 Maryland Avenue, SW., Washington, DC 20202-4260; or By mail through a commercial carrier: U.S. Department of Education, Application Control Center, Stop 4260, Attention: (CFDA Number 84.326C), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.326C), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Peer Review: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination To Improve Services and Results for Children With Disabilities program. These measures focus on the extent to which projects provide high quality products and services, the relevance of project products and services to educational and early intervention policy and practice, and the use of products and services to improve educational and early intervention policy and practice.

Grantees will be required to provide information related to these measures in annual reports to the Department.

Grantees also will be required to report information on their project's performance in annual reports to the Department (34 CFR 75.590).

VII. Agency Contact

FOR FURTHER INFORMATION CONTACT: Anne Smith, U.S. Department of Education, 400 Maryland Avenue, SW., Room 4066, Potomac Center Plaza (PCP), Washington, DC 20202-2550. Telephone: (202) 245-7529.

If you use a TDD, call the Federal Relay Service (FRS), toll-free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 19, 2008.
Tracy R. Justesen,
Assistant Secretary for Special Education and Rehabilitative Services.

[FR Doc. E8-6057 Filed 3-24-08; 8:45 am]

BILLING CODE 4000-01-P